DEPARTMENT OF THE INTERIOR

Bureau of Land Management

[LLNVS01000.L12320000.DA0000.18X.LVRDNV08000; MO# 4500153073]

Notice of Intent To Prepare a Resource Management Plan Amendment Environmental Assessment, Recreation Area Management Plan, and Travel Management Plan for Logandale Trails, Clark County, NV

AGENCY: Bureau of Land Management, Department of Interior.

ACTION: Notice of intent.

SUMMARY: In compliance with the National Environmental Policy Act of 1969, as amended (NEPA), and the Federal Land Policy and Management Act of 1976, as amended, the Bureau of Land Management (BLM), Las Vegas Field Office (LVFO), will prepare a Resource Management Plan Amendment Environmental Assessment (EA) for the proposed Logandale Trails Special Recreational Management Area, approximately 60 miles northeast of Las Vegas, Nevada, and west of the communities of Logandale and Overton, Nevada. This notice will include a Recreation Area Management Plan and a Travel Management Plan. Publication of this notice initiates the scoping process and opens a 30-day public comment period to solicit public comments and identify issues.

DATES: This notice initiates the 30-day public scoping process for the proposed Resource Management Plan Amendment, Recreation Area Management Plan, route inventory, and Travel Management Plan that will assist in the preparation of the Draft EA. Comments on issues may be submitted in writing until November 22, 2021. The date(s) and location(s) of virtual meetings will be announced at least 15 days in advance through local news media and the BLM website at: https://www.blm.gov/office/las-vegas-field-office.

Comments must be received prior to the close of the scoping period or 15 days after the last public meeting, whichever is later, to be included in the Resource Management Plan Amendment EA. The BLM will provide an additional opportunity for public participation upon publication of the draft EA; this will include an in-person and/or virtual public meeting.

ADDRESSES: Submit comments related to the project by any of the following methods:

• Email: BLM_NV_LVFO_Logandale_RAMP@blm.gov

• E-planning: https://eplanning.blm.gov/eplanning-ui/home, search for Resource Management Plan Amendment Environmental Assessment, Recreation Area Management Plan and Travel Management Plan for Logandale Trails

• Mail: BLM, Las Vegas Field Office, Attn: Kenny Kendrick, 4701 North Torrey Pines Drive, Las Vegas, NV 89130-2301

FOR FURTHER INFORMATION CONTACT: For further information and/or to have your name added to the mailing list, send requests to Colleen Cepero Rios, Planning & Environmental Coordinator, at telephone (702) 515-5395; or address, 4701 North Torrey Pines Drive, Las Vegas, NV 89130-2301; or email, cceperorios@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The proposed Logandale Trails Special Recreational Management Area would include approximately 15,019 acres of lands managed by the BLM, located approximately 60 miles northeast of Las Vegas, Nevada, bound to the east by the communities of Logandale and Overton, Nevada. The purpose of the public scoping process is to determine relevant issues that will influence the scope of the environmental analysis, including alternatives, and guide the process for developing the Resource Management Plan Amendment EA. BLM has identified the following preliminary issues: Threatened and endangered species, sensitive plant and wildlife species, vegetation, noxious weeds, cultural resources, recreation, mineral entry, sensitive soils, and private inholdings.

The BLM will consult with Native American tribes on a government-to-government basis in accordance with Executive Order 13175, Memorandum on Tribal Consultation and Strengthening Nation-to-Nation Relationships (86 FR 7491), and other policies. Native American tribal consultation will be conducted in accordance with policy, and tribal concerns will be given due consideration, including impacts on Indian Trust assets. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

The lands included in this notice are legally described as follows:

Mount Diablo Meridian, Nevada

T. 16 S., R. 66 E.,

Sec. 12, E½NE¼ and E½SE¼;

Sec. 13, E½NE¼, NE¼SE¼, and S½SE¼;

Sec. 24, E½.

T. 15 S., R. 67 E.,

Sec. 31, E½NE¼, E½SE¼SW¼, and SE¼;

Secs. 32 and 33;

Sec. 34, SW¼NW¼ and W½SW¼.

T. 16 S., R. 67 E.,

Sec. 3, lots 3 and 4, SW¼NE¼, S½NW¼, SW¼, and W½SE¼

Sec. 4;

Sec. 5, lots 1 thru 4, S½NE¼, S½NW¼, W½NW¼SW¼, W½SW¼SW¼, and SE¼;

Secs. 6 thru 9;

Sec. 10, W½NE¼, SE¼NE¼, W½, and SE¼;

Secs. 15 thru 23;

Sec. 26;

Sec. 27, NE¼, E½NW¼, and SE¼;

Sec. 28;

Sec. 29, NE¼, E½NW¼, E½SW¼, and SE¼.

(Authority: 40 CFR 1506.6, 40 CFR 1506.10, 43 CFR 1610.2; 43 CFR 1610.5)

Shonna Dooman,
Las Vegas Field Manager.

[FR Doc. 2021-23083 Filed 10-21-21; 8:45 am]

BILLING CODE 4310-HC-P